DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 13, 2005.

Interested persons are invited to submit written comments regarding the subject matter of the investigations to the Director, Division of Trade Adjustment Assistance, at the address shown below, not later than June 13, 2005.

The petitions filed in this case are available for inspection at the Office of the Director, Division of Trade Adjustment Assistance, Employment and Training Administration, U.S. Department of Labor, Room C-5311, 200 Constitution Avenue, NW., Washington, DC 20210.

Signed at Washington, DC this 23rd day of May 2005.
Timothy Sullivan,
Director, Division of Trade Adjustment Assistance.

Appendix
[Petitions instituted between 05/02/2005 and 05/13/2005]
TA-W | Subject firm (Petitioners) | Location | Date of institution | Date of petition
57,081 | GE Security (Comp) | Gladewater, TX | 05/02/2005 | 04/28/2005
57,082 | Hall China Company (The) (Comp) | East Liverpool, OH | 05/02/2005 | 04/11/2005
57,083 | Avx Corporation (Comp) | El Paso, TX | 05/02/2005 | 04/15/2005
57,084 | Kichler Lighting (State) | Cleveland, OH | 05/02/2005 | 04/21/2005
57,085 | Nobles Industries, Ltd. (State) | Hibbing, MN | 05/02/2005 | 05/02/2005
57,086 | Makita Corp. of America (Comp) | Buford, GA | 05/02/2005 | 04/28/2005
57,087 | Strandflex (Comp) | Oriskavy, NY | 05/02/2005 | 04/22/2005
57,088 | Cenveo (Comp) | Cambridge, MD | 05/02/2005 | 04/29/2005
57,089 | Ethicon Inc. (Comp) | San Angelo, TX | 05/02/2005 | 05/01/2005
57,090 | Hewlett-Packard (Wkrs) | Corvallis, OR | 05/03/2005 | 05/03/2005
57,091 | Northern Hardwoods (State) | South Range, MI | 05/03/2005 | 05/02/2005
57,092 | First Inertia Switch (Comp) | Grand Blanc, MI | 05/03/2005 | 04/26/2005
57,093 | Amco Convertible Fabrics (Comp) | Adrian, MI | 05/03/2005 | 04/29/2005
57,094 | Lake Eyelet Manufacturing Co. (State) | Southington, CT | 05/03/2005 | 05/03/2005
57,095 | EMI—G Knitting, Inc. (Comp) | Fort Payne, AL | 05/03/2005 | 05/02/2005
57,096 | GE Infrastructure Sensing (State) | Edison, NJ | 05/03/2005 | 05/02/2005
57,097 | Stockmen's, LLC (Wkrs) | Sioux City, IA | 05/03/2005 | 05/03/2005
57,098 | Monaco Coach Corp. (State) | Bend, OR | 05/03/2005 | 05/03/2005
57,099 | Rada, Inc. (Wkrs) | San Francisco, CA | 05/03/2005 | 04/22/2005
57,100 | D&B, Inc. (NPW) | Greensboro, NC | 05/03/2005 | 04/22/2005
57,101 | Gaylord Inland (State) | Dallas, TX | 05/04/2005 | 05/02/2005
57,102 | Sharon Young, Inc. (State) | Dallas, TX | 05/04/2005 | 05/02/2005
57,103 | Automatic Technology (Comp) | Charlotte, NC | 05/04/2005 | 05/04/2005
57,104 | Matsushita (Comp) | Forest Grove, OR | 05/04/2005 | 05/03/2005
57,105 | Twin City Foods, Inc. (IBT) | Lewiston, ID | 05/04/2005 | 04/28/2005
57,106 | Westchester Narrow Fabrics, Inc. (Comp) | Milton, PA | 05/04/2005 | 04/29/2005
57,107 | Seaboard Atlantic Garment, Inc. (Comp) | E. Syracuse, NY | 05/04/2005 | 05/02/2005
57,108 | Parker Hannifin (State) | Minneapolis, MN | 05/04/2005 | 05/03/2005
57,109 | TRW Automotive (Wkrs) | Brighton, MI | 05/04/2005 | 05/03/2005
57,110 | Compeq International (Comp) | Salt Lake City, UT | 05/04/2005 | 05/03/2005
57,111 | Dayco Products, LLC (State) | Rochester Hills, MI | 05/04/2005 | 04/26/2005
57,112 | Broyhill Furniture Ind. (Wkrs) | Lenoir, NC | 05/04/2005 | 04/18/2005
57,113 | Vander-Bend Mfg., LLC (Comp) | Sunnyvale, CA | 05/04/2005 | 04/21/2005
57,114 | Selkirk, LLC (SMWIA) | Logan, OH | 05/04/2005 | 04/26/2005
57,115 | BASF Corporation (Wkrs) | Southfield, MI | 05/04/2005 | 04/26/2005
57,116 | Active Quilting (Wkrs) | Plains, PA | 05/04/2005 | 05/02/2005
57,117 | Mayfield Industrial Maint. Company (LIUNA) | Mayfield, KY | 05/05/2005 | 05/03/2005
57,118 | Lucerne Textiles, Inc. (Comp) | New York, NY | 05/05/2005 | 04/21/2005
57,119 | Hafner, LLC (Wkrs) | Gordonsville, VA | 05/05/2005 | 05/04/2005
57,120 | MMG North America (State) | Paterson, NJ | 05/05/2005 | 05/04/2005
57,121 | Sara Lee Branded Apparel—J.E. Morgan (Comp) | Tamaqua, PA | 05/05/2005 | 05/04/2005
57,122 | Tower Automotive (Wkrs) | Corydon, IN | 05/05/2005 | 05/04/2005
57,123 | Page Belting Co., Inc. (Comp) | Concord, NH | 05/05/2005 | 05/04/2005
57,124 | Jeanerette Shipping Co., Inc. (State) | Jeanerette, LA | 05/06/2005 | 05/05/2005
57,125 | Teleflex Medical (Comp) | Research Triangle, NC | 05/06/2005 | 05/05/2005
57,126 | Tekmax, Inc. (Wkrs) | Tangent, OR | 05/06/2005 | 04/28/2005
57,127 | J.T. Shannon Lumber Co. of PA (Wkrs) | Tidioute, PA | 05/06/2005 | 04/22/2005
57,128 | Northwest Airlines (State) | Minneapolis, MN | 05/06/2005 | 05/06/2005
57,129 | ADM Milling Co. (USWA) | Wellsburg, WV | 05/06/2005 | 05/05/2005
57,130 | Barrows Industries (State) | Norwood, MA | 05/06/2005 | 04/15/2005
57,131 | Merry Maid Novelties (Comp) | Bangor, PA | 05/06/2005 | 05/03/2005
57,132 | Anderson Precision (Wkrs) | Jamestown, NY | 05/06/2005 | 04/27/2005
57,133 | Sentry Manufacturing Co. (Comp) | Chickasha, OK | 05/06/2005 | 04/28/2005
57,134 | Zomax, Inc. (State) | Fremont, CA | 05/06/2005 | 04/27/2005
57,135 | Elite Textiles Ltd. (Comp) | Albemarle, NC | 05/09/2005 | 04/29/2005
57,136 | Manpower (State) | Salem, OR | 05/09/2005 | 05/06/2005
57,137 | Ox-Yoke Originals, Inc. (State) | Milo, ME | 05/09/2005 | 05/06/2005
57,138 | New Hope Weavers (Comp) | Lansdale, PA | 05/09/2005 | 04/15/2005
57,139 | Brooks Automation (State) | Phoenix, AZ | 05/09/2005 | 05/05/2005
57,140 | Culp, Inc. (Wkrs) | Burlington, NC | 05/09/2005 | 05/09/2005
57,141 | Stanbury Uniforms (Wkrs) | Waxahachie, TX | 05/09/2005 | 04/15/2005
57,142 | Culp Upholstery Prints (Wkrs) | Burlington, NC | 05/09/2005 | 05/05/2005
57,143 | ACCPAC International Best Software (State) | Santa Rosa, CA | 05/09/2005 | 04/28/2005
57,144 | Ultimate Manufacturing, Inc (Wkrs) | San Antonio, TX | 05/09/2005 | 04/28/2005
57,145 | Columbia Lighting, Inc. (Wkrs) | Spokane, WA | 05/11/2005 | 05/09/2005
57,146 | Shamiana (Wkrs) | San Francisco, CA | 05/11/2005 | 05/05/2005
57,147 | Telepan Services of Oregon (Wkrs) | Hillsboro, OR | 05/11/2005 | 04/30/2005
57,148 | Hohenwald Thermal Plant (State) | Hohenwald, TN | 05/11/2005 | 05/03/2005
57,149 | MCI (Wkrs) | Weldon Spring, MO | 05/11/2005 | 04/26/2005
57,150 | Gas Transmission Services, LLC (Wkrs) | Portland, OR | 05/11/2005 | 05/10/2005
57,151 | U.S. Zinc (State) | Taylor Springs, IL | 05/11/2005 | 05/10/2005
57,152 | All-Luminum Products, Inc. Rio Brands (Comp) | Philadelphia, PA | 05/11/2005 | 05/09/2005
57,153 | Downeast Woodcrafters, Inc. (State) | Skowhegan, ME | 05/11/2005 | 05/10/2005
57,154 | Victaulic Company of America (USWA) | Easton, PA | 05/11/2005 | 05/11/2005
57,155 | Thomson, Inc. (Comp) | Marion, IN | 05/11/2005 | 05/11/2005
57,156 | Acuity Brands Lighting (Wkrs) | Vermilion, OH | 05/11/2005 | 04/20/2005
57,157 | Ted Thorsen (Comp) | Wilkes-Barre, PA | 05/12/2005 | 05/06/2005
57,158 | Creo Americas (State) | New York, NY | 05/12/2005 | 05/11/2005
57,159 | Electro-Mel Industries (State) | Hazelhurst, WI | 05/12/2005 | 05/04/2005
57,160 | JABO, Inc. K-B Production Co. (Comp) | Parkersburg, WV | 05/12/2005 | 05/12/2005
57,161 | Labinal-Corinth, Inc. (IAM) | Corinth, TX | 05/12/2005 | 05/12/2005
57,162 | Gulf Fibers, Inc. (Wkrs) | Axis, AL | 05/12/2005 | 05/12/2005
57,163 | Premier Refratories (Comp) | Snow Shoe, PA | 05/12/2005 | 04/27/2005
57,164 | Epson Portland, Inc. (Wkrs) | Hillsboro, OR | 05/12/2005 | 05/03/2005
57,165 | Panasonic Mobile Comm Development (Wkrs) | Suwanee, GA | 05/12/2005 | 05/05/2005
57,166 | Burner Systems International, Inc. (Comp) | Mansfield, OH | 05/12/2005 | 05/03/2005
57,167 | DB Roberts (State) | Burlington, ME | 05/13/2005 | 05/13/2005
57,168 | Oxford Automotive (NPC) | Troy, MI | 05/13/2005 | 05/12/2005
57,169 | MDI of South Carolina, LLC (Wkrs) | Schenectady, NY | 05/13/2005 | 05/06/2005
57,170 | Ludlow Textiles Co., Inc. (Comp) | Ludlow, MA | 05/13/2005 | 05/11/2005
57,171 | Focus: Hope (Wkrs) | Detroit, MI | 05/13/2005 | 05/06/2005
57,172 | Meridian Automotive (Wkrs) | Newton, NC | 05/13/2005 | 05/12/2005
57,173 | ECC Card Clothing, Inc. (Wkrs) | Simpsonville, SC | 05/13/2005 | 05/10/2005

[FR Doc. E5-2804 Filed 6-1-05; 8:45 am]

BILLING CODE 4510-30-P